DEPARTMENT OF LABOR

Employment and Training Administration

[TA-W-57,787]

Cross Stone Products LLC; Bristol, VA; Notice of Termination of Investigation

Pursuant to Section 221 of the Trade Act of 1974, as amended, an investigation was initiated on August 18, 2005, in response to a worker petition filed by the company on behalf of workers at Cross Stone Products LLC, Bristol, Virginia.

The petitioner has requested that the petition be withdrawn. Consequently, the investigation has been terminated.

Signed at Washington, DC this 23rd day of August 2005.
Elliott S. Kushner,
Certifying Officer, Division of Trade Adjustment Assistance.

[FR Doc. E5-5315 Filed 9-27-05; 8:45 am]

BILLING CODE 4510-30-P